DEPARTMENT OF COMMERCE

National Oceanic and Atmospheric Administration

RIN 0648-XF703

Fisheries of the South Atlantic; South Atlantic Fishery Management Council; Public Meetings

AGENCY: National Marine Fisheries Service (NMFS), National Oceanic and Atmospheric Administration (NOAA), Commerce.

ACTION: Notice of a public meeting of the South Atlantic Fishery Management Council's (Council) Information & Education Advisory Panel (AP).

SUMMARY: The Council's Information and Education AP will meet to address outreach efforts and communication needs. See SUPPLEMENTARY INFORMATION.

DATES: The Information and Education AP meeting will be held Tuesday, October 10, 2017, from 1:30 p.m. until 5 p.m. and from 9 a.m. until 12 p.m. on Wednesday, October 11, 2017.

ADDRESSES:

Meeting address: The meeting will be held at the Hilton Garden, 5265 International Boulevard, North Charleston, SC 29418.

Council address: South Atlantic Fishery Management Council, 4055 Faber Place Drive, Suite 201, N. Charleston, SC 29405.

FOR FURTHER INFORMATION CONTACT: Kim Iverson, Public Information Officer, South Atlantic Fishery Management Council, 4055 Faber Place Drive, Suite 201, N. Charleston, SC 29405; phone 843/571-4366 or toll free 866/SAFMC-10; FAX 843/769-4520; email: kim.iverson@safmc.net.

SUPPLEMENTARY INFORMATION: The Information and Education AP will review and provide recommendations on the Council's transition to a new fishing regulations mobile application and the development of the Council's online Fishermen's Forum. The AP will also receive presentations and have the opportunity to provide recommendations on the Council's recreational reporting projects, specifically the MyFishCount Recreational Reporting Project, the For-Hire Electronic Reporting Outreach Project, and the use of iAngler for possible recreational reporting opportunities. Additionally, the AP will receive program updates from the Council's Citizen Science Program and the Marine Resource Education Program.

Although other non-emergency issues not on the agenda may come before this group for discussion, those issues may not be the subject of formal action during this meeting. Actions will be restricted to those issues specifically listed in this notice and any issues arising after publication of this notice that require emergency action under Section 305(c) of the Magnuson-Stevens Fishery Conservation and Management Act, provided the public has been notified of the Council's intent to take final action to address the emergency.

Special Accommodations

This meeting is accessible to people with disabilities. Requests for auxiliary aids should be directed to the SAFMC office (see ADDRESSES) at least 5 business days prior to the meeting.

Note: The times and sequence specified in this agenda are subject to change.

Authority: 16 U.S.C. 1801 et seq.

Dated: September 19, 2017.
Tracey L. Thompson,
Acting Deputy Director, Office of Sustainable Fisheries, National Marine Fisheries Service.

[FR Doc. 2017-20237 Filed 9-21-17; 8:45 am]

BILLING CODE 3510-22-P